Proclamation 10066 of August 31, 2020

National Childhood Cancer Awareness Month, 2020

By the President of the United States of America

A Proclamation

Childhood should be a time of joy, laughter, innocence, and wonder. Sadly, more than 15,000 American children and adolescents endure the pain, heartache, and uncertainty of a cancer diagnosis each year. Today, cancer is the leading cause of death from disease beyond infancy for our Nation's youth, and in 2020 alone, it is expected to take the lives of approximately 1,200 children under 15 years of age. During National Childhood Cancer Awareness Month, we recognize the courage and strength of the brave children battling a cancer diagnosis, and we reaffirm our commitment to combating pediatric cancers and supporting these children and their families and friends in their fight.

Over the last half century, substantial progress has been made in the diagnosis and treatment of several types of childhood cancer. Yet our resolve to ensure that every child can grow up cancer-free has never been stronger. We remain dedicated to the goal of ending childhood cancer and continuing to improve the care that all of these children receive.

To achieve these goals, my Administration is working with the Congress to invest $500 million over the next decade to provide our Nation's best researchers and clinicians with unparalleled opportunities to better understand, treat, and ultimately cure childhood cancer. The National Cancer Institute is implementing the Childhood Cancer Data Initiative, which will collect, analyze, and share data to advance pediatric cancer breakthroughs. Additionally, the Food and Drug Administration's Pediatric Oncology program is working to accelerate the development of safe and effective new drugs to treat childhood cancers. These efforts will spur critical innovation in diagnoses, treatment, and prevention that will save lives.

During National Childhood Cancer Awareness Month, we honor the memory of the precious children and adolescents lost to cancer, and we pray for their families and friends as they remember their loved ones. We recommit to providing help, compassion, and encouragement to those children who are in the midst of a difficult battle. And we reaffirm our admiration and respect for the healthcare professionals who have continued to work tirelessly for these children during the coronavirus pandemic so that every child can enjoy a future filled with promise, good health, and hope.

NOW, THEREFORE, I, DONALD J. TRUMP, President of the United States of America, by virtue of the authority vested in me by the Constitution and the laws of the United States, do hereby proclaim September 2020 as National Childhood Cancer Awareness Month. I ask every American to reach out and help a family battling childhood cancer. I encourage citizens, government agencies, private businesses, nonprofit organizations, the media, and other interested groups to increase awareness of what Americans can do to support the fight against childhood cancer. I also invite the Governors of the States and Territories and officials of other areas subject to the jurisdiction of the United States to join me in recognizing National Childhood Cancer Awareness Month.

IN WITNESS WHEREOF, I have hereunto set my hand this thirty-first day of August, in the year of our Lord two thousand twenty, and of the Independence of the United States of America the two hundred and forty-fifth.

[FR Doc. 2020-19750

Filed 9-2-20; 11:15 am]

Billing code 3295-F0-P